FEDERAL COMMUNICATIONS COMMISSION

47 CFR Part 73

[DA 02-2603; MB Docket No. 02-141; RM-10428]

Radio Broadcasting Services; Exmore and Belle Haven, VA

AGENCY: Federal Communications Commission.

ACTION: Proposed rule; dismissal.

SUMMARY: At the request of petitioners Commonwealth Broadcasting, LLC, licensee of Station WEXM(FM), Exmore, Virginia, and Sinclair Telecable, d/b/a Sinclair Communications, licensee of Station WROX-FM, Cape Charles, Virginia, this document dismisses the petition for rule making that underlies the Notice of Proposed Rulemaking in this proceeding. See 67 FR 42524 (June 24, 2002). The Notice proposed that the Commission reallot Channel 291B from Exmore to Belle Haven, Virginia, and reallot Channel 241B from Cape Charles to Exmore, Virginia, and modify the licenses of Stations WEXM(FM) and WROX-FM to reflect the changes. On June 21, 2002, petitioners filed a request for withdrawal of petition and expression of interest in this matter.

FOR FURTHER INFORMATION CONTACT: Victoria M. McCauley, (202) 418-2180.

SUPPLEMENTARY INFORMATION: This is a synopsis of the Commission's Report and Order, MB Docket No. 02-141, adopted October 2, 2002, and released October 18, 2002. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893. facsimile 202 863-2898, or via e-mail qualexint@aol.com.

Federal Communications Commission.
John A. Karousos,
Assistant Chief, Audio Division, Media Bureau.

[FR Doc. 02-27692 Filed 10-30-02; 8:45 am]

BILLING CODE 6712-01-P